ENVIRONMENTAL PROTECTION AGENCY

40 CFR Part 52

[EPA-R01-OAR-2023-0235; FRL-12018-02-R1]

Air Plan Approval; Connecticut; Plan for Inclusion of a Consent Order and Removal of State Orders

AGENCY: Environmental Protection Agency (EPA).

ACTION: Final rule.

SUMMARY: The Environmental Protection Agency (EPA) is approving a State Implementation Plan (SIP) revision submitted by the Connecticut Department of Energy and Environmental Protection (CT DEEP) to (1) remove State Order 7002B issued to Dow Chemical USA (Dow) in Gales Ferry on May 25, 1982, from the Connecticut SIP, (2) remove State Order 8027 issued to Pratt & Whitney Division of United Technologies Corporation (Pratt & Whitney) in North Haven on March 22, 1989, from the Connecticut SIP, and (3) add Consent Order 8381 issued to Thames Shipyard and Repair Company (Thames Shipyard) in New London, CT on December 3, 2021, to the Connecticut SIP. State Orders 8027 and 7002B addressed reasonably available control technology (RACT) for volatile organic compound (VOC) emissions and sulfur fuel content limits for Pratt & Whitney and Dow, respectively. EPA is approving the Thames Shipyard Order into Connecticut's SIP to ensure RACT requirements with respect to VOC emissions from shipbuilding and repair operations continue to be implemented at Thames Shipyard. This action is being taken in accordance with the Clean Air Act.

DATES: This rule is effective on August 25, 2025.

ADDRESSES: EPA has established a docket for this action under Docket Identification No. EPA-R01-OAR-2023-0235. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection.

FOR FURTHER INFORMATION CONTACT: Michele Kosin, Physical Scientist, Air Quality Branch, Air & Radiation Division (Mail Code 5-MI), U.S. Environmental Protection Agency, Region 1, 5 Post Office Square, Suite 100, Boston, Massachusetts 02109-3912; (617) 918-1175; kosin.michele@epa.gov.

SUPPLEMENTARY INFORMATION: Throughout this document whenever “we,” “us,” or “our” is used, we mean EPA.

Table of Contents

I. Background and Purpose

II. Final Action

III. Incorporation by Reference

IV. Statutory and Executive Order Reviews

I. Background and Purpose

On June 7, 2024 (89 FR 48532), EPA published a Notice of Proposed Rulemaking (NPRM) for the State of Connecticut. The NPRM proposed approval to revise the Connecticut SIP by removing State Orders 7002B and 8027 and adding Consent Order 8381 to the Connecticut SIP. State Order 7002B is no longer necessary because most of the regulated equipment has been removed from the property and the remaining equipment is subject to more stringent regulatory requirements than those established in the Order. State Order 8027 is no longer necessary to implement RACT because the equipment subject to the Order has been removed from the property. Consent Order 8381 requires source-specific VOC RACT to addresses VOC emissions from miscellaneous metal and plastic parts coating operations. The SIP revision was submitted by Connecticut on May 31, 2022, and supplemented on February 14, 2024.

Other specific requirements of CT's RACT orders and the rationale for EPA's proposed action are explained in the NPRM and will not be restated here. No public comments were received on the NPRM.

II. Final Action

EPA is approving the revisions to the Connecticut SIP to include Consent Order 8381, and remove State Orders 7002B and 8027.

III. Incorporation by Reference

In this rule, the EPA is finalizing regulatory text that includes incorporation by reference. In accordance with requirements of 1 CFR 51.5, the EPA is finalizing the incorporation by reference of Consent Order 8381 and removing the incorporation by reference of State Orders 7002B and 8027, as discussed in section I. of this preamble and set forth below in the amendments to 40 CFR part 52. The EPA has made, and will continue to make, these documents generally available through https://www.regulations.gov and at the EPA Region 1 Office (please contact the person identified in the FOR FURTHER INFORMATION CONTACT section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the rights or obligations of non-agency parties. 5 U.S.C. 804(3). Because this is a rule of particular applicability, EPA is not required to submit a rule report regarding this action under section 801.

Under section 307(b)(1) of the Clean Air Act, petitions for judicial review of this action must be filed in the United States Court of Appeals for the appropriate circuit by September 22, 2025. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 15, 2025.
Mark Sanborn,
Regional Administrator, EPA Region 1.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart H—Connecticut

2. Section 52.370 is amended by:

a. Revising paragraph (c)(26); and

b. Adding paragraphs (c)(51)(i)(E) and (c)(138).

The revision and additions read as follows:

§ 52.370 Identification of plan.

* * * * *

(c) * * *

(26) Revisions to the State Implementation Plan submitted by the Connecticut Department of Environmental Protection on December 20, 1982.

(i) Incorporation by reference. (A) State Order No. 7002B signed on May 27, 1982, for Dow Chemical U.S.A. in Gale's Ferry. This provision supersedes a portion of the revisions identified under paragraph (c)(18) of this section.

(B) State Order No. 7002B, which was approved in paragraph (c)(26)(i)(A) of this section, is removed without replacement.

(ii) Additional materials. (A) Letter from Connecticut dated December 20, 1982, submitting a revision to the Connecticut State Implementation Plan.

(B) [Reserved]

* * * * *

(51) * * *

(i) * * *

(E) State Order No. 8027 and attached Compliance Timetable for Pratt & Whitney Division of United Technologies Corporation in North Haven, Connecticut, which was approved in paragraph (c)(51)(i)(C) of this section, is removed without replacement.

* * * * *

(138) Revisions to the State Implementation Plan submitted by the Connecticut Department of Energy and Environmental Protection on July 19, 2022.

(i) Incorporation by reference. (A) State of Connecticut vs. Thames Shipyard & Repair Company, Consent Order No. 8381, issued as a final order on December 3, 2021.

(B) [Reserved]

(ii) [Reserved]

3. Section 52.385 is amended in Table 52.385 by:

a. Adding a tenth entry for “22a-174-22” before the entry “22a-174-22a”; and

b. Adding a tenth entry for “22a-174-32” before the entry “22a-174-33a”.

The additions read as follows:

§ 52.385 EPA-approved Connecticut regulations.

* * * * *

Table 52.385—EPA-Approved Regulations
Connecticut state citation | Title/subject | Dates: Date adopted by State | Dates: Date approved by EPA | Federal Register citation | Section 52.370 | Comments/description
* * * * * * *
22a-174-22 | Control of Nitrogen Oxides emissions | 5/3/2022 | 6/28/2022 | 87 FR 38284 | (c)(128) | VOC RACT for Middletown Power LLC, Montville Power LLC, Connecticut Jet Power LLC, and Devon Power LLC, Order No. 8377, Modification 1.
* * * * * * *
22a-174-32 | Reasonably available control technology for volatile organic compounds | 12/3/2021 | 7/24/2025 | [90 FR [Insert Federal Register page where the document begins], 7/24/2025 | (c)(138) | VOC RACT for Thames Shipyard, Order No. 8381.
* * * * * * *

[FR Doc. 2025-13886 Filed 7-23-25; 8:45 am]

BILLING CODE 6560-50-P